DEPARTMENT OF THE INTERIOR

Bureau of Land Management

[ID-070-1150-PG]

Notice of Public Meeting, Upper Snake River Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Upper Snake River Resource Advisory Council (RAC), will meet as indicated below.

DATES: The meeting will be held February 25 and 26, 2003, at the BLM Fire Warehouse, 3630 Overland Road in Burley, Idaho. The meeting will start February 25 at 9 a.m., with the public comment period beginning at approximately 1 p.m. The meeting will adjourn on February 26 at or before 5 p.m.

SUPPLEMENTARY INFORMATION: The 15-member Council advises the Secretary of the Interior, through the Bureau of Land Management, on a variety of planning and management issues associated with public land management in the BLM Upper Snake River District (USRD), which covers south-central and southeast Idaho. At this meeting, topics we plan to discuss include:

Range Ecology training for new members.

Updates on major planning projects in the USRD, including coordination of subgroups.

BLM's Draft Environmental Impact Statement on proposed changes to Grazing Regulations.

An update on the Idaho BLM's proposed organizational refinements, and the potential changes to the RAC.

Brief overview on the Abandoned Mine Lands program, for the education of the RAC.

Other items of interest raised by the Council.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

Other meetings in 2004 will be held in Jerome, Idaho on May 19-20; in Idaho Falls, Idaho on September 8-9; and in Pocatello, Idaho on November 17-18. The exact location of these meetings will be announced through press releases to local media.

FOR FURTHER INFORMATION CONTACT: David Howell, RAC Coordinator, Upper Snake River District, 1405 Hollipark Dr., Idaho Falls, ID 83401. Telephone (208) 524-7559.

Dated: January 27, 2004.
David O. Howell,
Public Affairs Specialist.

[FR Doc. 04-2045 Filed 1-30-04; 8:45 am]

BILLING CODE 4310-GG-P